DEPARTMENT OF LABOR

Employment and Training Administration

[TA-W-39,265 and TA-W-39,265A]

McGinley Mills, Inc., Phillipsburg and Easton, PA; Amended Certification Regarding Eligibility To Apply for Worker Adjustment Assistance

In accordance with section 223 of the Trade Act of 1974 (19 USC 2273) the Department of Labor issued a Notice of Certification Regarding Eligibility to Apply for Worker Adjustment Assistance on September 4, 2001, applicable to workers of McGinley Mills, Inc., Easton, Pennsylvania. The notice was published in the Federal Register on September 21, 2001, (66 FR 48707).

At the request of the company, the Department reviewed the certification for workers of the subject firm. The company reports that worker separations occurred at the Phillipsburg, New Jersey location of McGinley Mills, Inc. The Phillipsburg, New Jersey location produces woven greige goods needed for the production of ribbons and ribbon products at the Easton, Pennsylvania location of the subject firm.

Based on these findings, the Department is amending the certification to include workers of the Phillipsburg, New Jersey location of McGinley Mills, Inc.

The intent of the Department's certification is to include all workers of McGinley Mills, Inc. who were adversely affected by increased imports.

The amended notice applicable to TA-W-39,265 is hereby issued as follows:

All workers of McGinley Mills, Inc., Easton, Pennsylvania (TA-W-39,265) and McGinley Mills, Inc., Phillipsburg, New Jersey (TA-W-39,265A) who became totally or partially separated from employment on or after April 26, 2000, through September 4, 2003, are eligible to apply for adjustment assistance under section 223 of the Trade Act of 1974.

Signed at Washington, DC, this 17th day of January, 2002.
Linda G. Poole,
Certifying Officer, Division of Trade Adjustment Assistance.

[FR Doc. 02-2347 Filed 1-30-02; 8:45 am]

BILLING CODE 4510-30-M